DEPARTMENT OF THE INTERIOR

National Park Service

Extension and Amendment of Concession Contract; Denali National Park & Preserve, AK

AGENCY: National Park Service, Interior.

ACTION: Public Notice.

SUMMARY: Pursuant to 36 CFR 51.23, public notice is hereby given that the National Park Service proposes to extend and amend Concession Contract No. DENA001, with ARAMARK Sports and Entertainment Services, Inc. The extension will for a period of 1 year from October 1, 2001, until October 1, 2002. This action will also delete “lodging accommodations” from the authorized services, amend the land and building assignment and require the concession to make an additional year's contribution to the concession capital improvement account.

EFFECTIVE DATE: October 31, 2001.

FOR FURTHER INFORMATION CONTACT: Nick Hardigg, Concession Specialist, Denali National Park & Preserve, PO Box 9, Denali Park, AK 99755, Telephone 907/683-9553.

SUPPLEMENTARY INFORMATION: The hotel (and associated facilities—restaurant, cafe and gift shop) at park headquarters will close after the 2001 operating season and be demolished or reused for other purposes after October 1, 2001, in accordance with the Final Entrance Area and Road Corridor Development Concept Plan for Denali National Park & Preserve.

The National Park Service has determined that the proposed 1-year extension is necessary in order to avoid interruption of visitor services and has taken all reasonable and appropriate steps to consider alternatives to avoid such interruption.

Dated: August 16, 2001.
Richard G. Ring,
Associate Director, Park Operations and Education.

[FR Doc. 01-24524 Filed 9-28-01; 8:45 am]

BILLING CODE 4310-70-M